DEPARTMENT OF DEFENSE

Department of the Army, Corps of Engineers

Intent To Prepare a Draft Environmental Impact Statement for the Proposed Mather Specific Plan, Sacramento County, CA, Permit Application number SPK-2002-561

AGENCY: Department of the Army, U.S. Army Corps of Engineers, DOD.

ACTION: Notice of intent.

SUMMARY: The U.S. Army Corps of Engineers, Sacramento District, (Corps) will prepare an Environmental Impact Statement (EIS) for the Mather Specific Plan in Sacramento County, CA. The Sacramento County Department of Economic Development has applied for a Department of the Army permit to fill approximately 35.4 acres of waters of the United States, including wetlands, to construct the project.

ADDRESSES: Please send written comments to Kathleen Dadey, U.S. Army Corps of Engineers, Sacramento District, 1325 J Street, Room 1480, Sacramento, CA, 95814-2922.

FOR FURTHER INFORMATION CONTACT: Questions about the proposed action and EIS can be answered by Kathleen Dadey, (916) 557-7253, e-mail: kathleen.a.dadey@usace.army.mil.

SUPPLEMENTARY INFORMATION: The Sacramento County Department of Economic Development has applied for Department of Army permits under Section 404 of the Clean Water Act to develop public and private uses within the Mather Specific Plan area in eastern Sacramento County, CA. The Plan area encompasses approximately 5,716 acres of land, of which over 2,000 acres are currently developed. The project proposes to develop approximately 1,870 acres, and set aside 1,274 acres of wetland preserve/open space. The proposed action includes approximately 584 acres of commercial uses associated with the adjacent Mather Airport, 201 acres of commercial, 84 acres of aggregate extraction, 598 acres of university village/residential, 102 acres of parks and recreation, 274 acres for a regional sports park, and 27.4 acres for utilities and infrastructure. Approximately 124 acres of waters of the United States have been identified in the proposed project area, including 69.8 acres of vernal wetlands (pools and swales), 27.3 acres of depressional seasonal wetlands, 1.9 acres of ditches, 5.7 acres of lake/pond and 19.1 acres of other waters of the United States. The applicant has applied for permits to fill 35.39 acres of these waters. The approximately 1,274 acre open space and wetland preserve would contain approximately 47.3 acres of waters not directly impacted by the project. In addition, approximately 4.9 acres of wetlands at the west end of the Mather Airport runway would be avoided and placed under some type of protective agreement, but not a conservation easement.

The EIS will include an evaluation of a reasonable range of alternatives. Currently, at least four alternatives are expected to be analyzed in detail: (1) The no action alternative (no permit issued), (2) the applicant's preferred project (proposed action), (3) an offsite alternative, and (4) a reduced development footprint alternative. The no action alternative assumes limited development would occur in the Mather Specific Plan area with all waters of the United States avoided. The off-site alternative assumes the proposed project would be developed at a different but suitably-sized site in the region. A reduced development footprint alternative will have a smaller development footprint than the applicant's preferred project with less direct impacts to waters of the United States.

The Corps' scoping process for the EIS includes a public involvement program with several opportunities to provide oral and written comments. In addition to public meetings and notifications in the Federal Register, the Corps will issue public notices when the draft and final EISs are available. Affected Federal, State, and local agencies, Native American tribes, and other interested organizations and parties are invited to participate.

Potentially significant issues to be analyzed in the EIS include, but are not limited to: Hydrology, water supply, water quality, cultural resources, biological resources, traffic and transportation, and air quality.

The Corps is the lead agency for preparation of the EIS under the requirements of the National Environmental Policy Act (NEPA). The Corps will coordinate with the U.S. Environmental Protection Agency, U.S. Fish and Wildlife Service and Central Valley Regional Water Quality Control Board.

Other environmental review and consultation requirements for the proposed action include the need for the applicant to obtain water quality certification under Section 401 of the Clean Water Act from the Central Valley Regional Water Quality Control Board. In addition, because the proposed project may affect federally-listed endangered species, the Corps will formally consult with the U.S. Fish and Wildlife Service in accordance with Section 7 of the federal Endangered Species Act. The Corps will also be consulting with the State Historic Preservation Officer under Section 106 of the National Historic Preservation Act concerning properties listed, or potentially eligible for listing, on the National Register of Historic Places.

One public scoping meeting for the EIS will be held on January 6, from 4 p.m. to 7 p.m. Conference Room 170 located at 10545 Armstrong Avenue, Mather CA, 95655. Interested parties can provide oral and written comments at the meeting. Interested parties may also submit written comments on this notice. Scoping comments should be submitted before January 31, 2010, but may be submitted at any time prior to publication of the Draft EIS.

Interested parties may register for the Corps' public notice email notification lists at: http://www.spk.usace.army.mil/organizations/cespk-co/regulatory/pnlist.html.

Dated: November 30, 2009.
Thomas C. Chapman,
Colonel, Corps of Engineers, District Engineer.

[FR Doc. E9-29603 Filed 12-10-09; 8:45 am]

BILLING CODE 3720-58-P